DEPARTMENT OF HOUSING AND URBAN DEVELOPMENT

[Docket No. FR-7046-N-07]

Privacy Act of 1974; System of Records

AGENCY: Office of Chief Human Capital Officer, HUD.

ACTION: Notice of a new system of records.

SUMMARY: Pursuant to the provisions of the Privacy Act of 1974, as amended, the Department of the Housing and Urban Development (HUD), Office of the Chief Human Capital Officer (OCHCO) is issuing a public notice of its intent to establish a Privacy Act system of records titled “HR Case Management Solution,” HUD/OCHCO 01.

The purpose of this system of records is to allow HUD to collect and maintain records on individuals requesting or receiving reasonable accommodations and religious/medical exception requests.

DATES: This notice shall be applicable immediately, which will become effective December 16, 2021.

Comments will be accepted on or before December 16, 2021. This proposed action will be effective on the date following the end of the comment period unless comments are received which result in a contrary determination.

ADDRESSES: You may submit comments, identified by docket number HUD-2021-Docket Number not yet identified.

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139, Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: Ladonne White, Departmental Privacy Officer, 451 Seventh Street SW, Room 10139, Washington, DC 20410-0001, telephone number 202-402-3559 (this is not a toll-free number).

SUPPLEMENTARY INFORMATION: In accordance with the Privacy Act of 1974, the Department of Housing and Urban Development (HUD) proposes to establish a new system of records titled, “HR Case Management Solution.” This system of records covers HUD's collection and maintenance of records on applicants for employment, employees, and other individuals who participate in HUD programs or activities who request or receive reasonable accommodations or other appropriate modifications from HUD for medical and religious reasons.

Title V of the Rehabilitation Act of 1973, as amended, prohibits discrimination in services and employment based on disability, and Title VII of the Civil Rights Act of 1974 prohibits discrimination, including on the basis of religion. These prohibitions on discrimination require Federal agencies to provide reasonable accommodations to individuals with disabilities and those with sincerely held religious beliefs unless doing so would impose an undue hardship. In some instances, individuals may request modifications to their workspace, schedule, duties, or other requirements for documented medical reasons that may not qualify as a disability but may necessitate an appropriate modification to workplace policies and practices.

The Office of the Chief Human Capital Officer (OCHCO), processes requests for reasonable accommodations from employees and applicants for employment, respectively, who require an accommodation due to a medical or religious reason; OCHCO also processes requests based on documented medical reasons that may not qualify as a disability but that necessitate an appropriate modification to workplace policies and practices. The request, documentation provided in support of the request, any evaluation conducted internally, or by a third party under contract to HUD, the decision regarding whether to grant or deny a request, and the details and conditions of the reasonable accommodation and exception requests are all included in this system of records.

SYSTEM NAME AND NUMBER:

Human Resource (HR) Case Management Solution, HUD/OCHCO-01.

SECURITY CLASSIFICATION:

Unclassified.

SYSTEM LOCATION:

United States Department of Housing and Urban Development Headquarters location, 451 7th Street SW, Washington, DC 20410-0001.

SYSTEM MANAGER(S):

Director, Human Capital Information System Division (HCISD), Office of the Chief Human Capital Officer (OCHCO), 451 Seventh Street SW, Washington, DC 20410-0001.

AUTHORITY FOR MAINTENANCE OF THE SYSTEM:

The collection and maintenance of accommodation records is authorized by the Rehabilitation Act, 29 U.S.C. 791, and Title VII of the Civil Rights Act, 42 U.S.C. 2000e, as well as Executive Orders 13164 and 14043, and 29 CFR 1605 and 1614.

PURPOSES OF THE SYSTEM:

The purpose of this system is to allow HUD to collect and maintain records on individuals (including employees and applicants for employment) requesting or receiving reasonable accommodations and religious and medical exception requests. Another purpose of this system is to monitor, process, track and report the processing of reasonable accommodation and exception requests while ensuring compliance with applicable laws and regulations, including confidentiality requirements protecting information individuals submit in support of accommodation requests and exception.

CATEGORIES OF INDIVIDUALS COVERED BY THE SYSTEM:

Current, former HUD employees and applicants for employment who request or receive reasonable accommodations or exceptions.

CATEGORIES OF RECORDS IN THE SYSTEM:

Name, home address, email address(es), home telephone number(s), work telephone number(s), work address, protected health information, religion, vehicle license plate, legal documents and records, evidentiary records, requesters, attorneys or representatives' names, fax number, office information, employment status, history or information, employee identification number, education records, case identifier and HUD ID, medical/religious exception requests, records, forms, documentation, reasonable accommodations applications, supporting documentation, and related data fields.

RECORD SOURCE CATEGORIES:

Information is obtained from the individuals or the representatives who request and/or receive a reasonable accommodation or medical and religious exceptions from HUD, directly or indirectly from an individual's medical provider or another medical professional who evaluates the request, directly or indirectly from an individual's religious or spiritual advisors or institutions, and HUD personnel who participate in the receipt, evaluation, review, decision and implementation of reasonable accommodation and exception requests, such as hiring officials, human resource officials, supervisors and managers, reasonable accommodation officials, attorneys, and deciding officials.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside HUD as a routine use pursuant to 5 U.S.C. 552a(b)(3) as follows:

A. To a congressional office from the record of an individual, in response to an inquiry from the congressional office made at the request of that individual.

B. To contractors, grantees, experts, consultants, Federal agencies, and non-Federal entities, including, but not limited to, State and local governments and other research institutions or their parties, and entities and their agents with whom HUD has a contract, service agreement, grant, or cooperative agreement, when necessary to accomplish an agency function, related to a system of records, for the purposes of statistical analysis and research in support of program operations, management, performance monitoring, evaluation, risk management, and policy development, or to otherwise support the Department's mission.

C. To contractors, grantees, experts, consultants and their agents, or others performing or working under a contract, service, grant, or cooperative agreement with HUD or under contract to another agency when necessary to accomplish an agency function related to a system of records. Disclosure requirements are limited to only those data elements considered relevant to accomplishing an agency function. Individuals provided information under these routine use conditions are subject to Privacy Act requirements and disclosure limitations imposed on the Department.

D. To appropriate agencies, entities, and persons when: (1) HUD suspects or has confirmed that there has been a breach of the system of records; (2) HUD has determined that as a result of the suspected or confirmed breach there is a risk of harm to individuals, HUD, the Federal Government, or national security; and (3) The disclosure made to such agencies, entities, and persons is reasonably necessary to assist in connection with HUD's efforts to respond to the suspected or confirmed breach or to prevent, minimize, or remedy such harm.

E. To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

F. To appropriate Federal, State, local, tribal, or governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

G. To a court, magistrate, administrative tribunal, or arbitrator while presenting evidence, including disclosures to opposing counsel or witnesses in the course of civil discovery, litigation, mediation, or settlement negotiations; or in connection with criminal law proceedings; or in response to a subpoena or to a prosecution request when such records to be released are specifically approved by a court provided order. Disclosures made pursuant to this routine use are limited to when HUD determines that use of such records is relevant and necessary to the litigation, provided, however, that in each case, HUD determines that the disclosure of the records is a use of the information contained in the records that is compatible with the purpose for which the records were collected.

H. To the Department of Justice when (a) the agency, or any component thereof; or (b) any employee of the agency in his or her official capacity; or (c) any employee of the agency in his or her individual capacity where the Department of Justice has agreed to represent the employee; or (d) the United States, where the agency determines that litigation is likely to affect the agency or any of its components, is a party to litigation or has an interest in such litigation, and the use of such records by the Department of Justice is deemed by the agency to be relevant and necessary to the litigation, provided, however, that in each case, the agency determines that disclosure of the records to the Department of Justice is a use of the information contained in the records that is compatible with the purpose for which the records were collected.”

I. To officials of labor organizations recognized under the Civil Service Reform Act when relevant and necessary to their duties of exclusive representation concerning personnel policies, practices, and matters affecting work conditions.

K. To the Office of Personnel Management (OPM), the Merit Systems Protection Board (and its office of the Special Counsel), the Federal Labor Relations Authority (and its General Counsel), or the Equal Employment Opportunity Commission when requested in performance of their authorized duties of exclusive representation concerning personnel policies, practices, and matters affecting work conditions.

POLICIES AND PRACTICES FOR STORAGE OF RECORDS:

Electronic Records are maintained and stored in a secured network environment. Paper copies records are stored and locked in cabinets.

POLICIES AND PRACTICES FOR RETRIEVAL OF RECORDS:

Paper and electronic records are retrieved by the name, case number, HUD Identification number associated with the individual.

POLICIES AND PRACTICIES FOR RETENTION AND DISPOSAL OF RECORDS:

Destroy 3 years after employee separation from the agency or all appeals are concluded whichever is later, but longer retention is authorized if required for business use.

ADMINISTRATIVE, TECHNICAL, AND PHYSICAL SAFEGUARDS:

Electronic Records are maintained and stored in an electronic encryption database system. These records can only be access based off the user's rights and privileges to the system. A multifactor identification method is required which consists of the several layers of security to access the records, such as a valid common access card, access to HUD's network, a valid User ID and password, and a Personalized Identification Number (PIN).

RECORD ACCESS PROCEDURES:

Individuals seeking to determine whether this System of Records contains information on themselves should address written inquiries to the Department of Housing and Urban Development, Office of the Chief Human Capital Officer (OCHCO), 451 7th Street SW, Washington, DC 20410-0001. For verification purposes, individuals should provide full name, current address, and telephone number. In addition, the requester must provide either a notarized statement or an unsworn declaration made in accordance with 28 U.S.C. 1746, in the following format:

If executed outside the United States: “I declare (or certify, verify, or state) under penalty of perjury under the laws of the United States of America that the foregoing is true and correct. Executed on (Date). (Signature).”

If executed within the United States, its territories, possessions, or commonwealths: “I declare (or certify, verify, or state) under penalty of perjury that the foregoing is true and correct. Executed on (Date). (Signature).”

CONTESTING RECORD PROCEDURES:

The HUD rule for accessing, contesting, and appealing agency determinations by the individual concerned are published in 24 CFR part 16.

NOTIFICATION PROCEDURES:

Individuals seeking to determine whether information about themselves is contained in this system should address written inquiries to the Department of Housing and Urban Development, Office of the Chief Human Capital Officer (OCHCO), 451 7th Street SW, Washington, DC 20410-0001. For verification purposes, individuals should provide full name, office or organization where currently assigned, if applicable, and current address and telephone number. In addition, the requester must provide either a notarized statement or an unsworn declaration made in accordance with 28 U.S.C. 1746, in the following format:

If executed outside the United States: “I declare (or certify, verify, or state) under penalty of perjury under the laws of the United States of America that the foregoing is true and correct. Executed on (Date). (Signature).”

If executed within the United States, its territories, possessions, or commonwealths: “I declare (or certify, verify, or state) under penalty of perjury that the foregoing is true and correct. Executed on (Date). (Signature).”

EXEMPTIONS PROMULGATED FOR THE SYSTEM:

None.

HISTORY:

N/A.

Ladonne L. White,
Departmental Privacy Officer.

[FR Doc. 2021-24892 Filed 11-15-21; 8:45 am]

BILLING CODE 4210-67-P